DEPARTMENT OF AGRICULTURE

Forest Service

Western Washington Cascades Provincial Interagency Executive Committee (PIEC) Advisory Committee

AGENCY: Forest Service, USDA

ACTION: Notice of meeting.

SUMMARY: The Western Washington Cascades Provincial Interagency Executive Committee Advisory Committee (Provincial Advisory Committee) will meet on Thursday, May 18, 2000, at the Mt. Baker-Snoqualmie National Forest Headquarters, 21905 64th Avenue West, in Mountlake Terrace, WA. The meeting will begin at 9 a.m. and continue until about 3 p.m. Agenda items to be covered include: (1) Review and discussion of the Finney Adaptive Management Area (AMA), (2) Formulation and evaluation of options for the Finney AMA, (3) Determining how to better utilize active watershed groups, (4) Chilliwack River Monitoring Project, and (5) Salmon of the Skagit River.

In addition to the Advisory Committee meeting, a field trip for Advisory Committee members will take place the previous day, Wednesday, May 17, 2000. Members will tour portions of the Finney basin on the Darrington Ranger District, commencing at 9 a.m. at the Darrington District Office, 1405 Emens Street, Darrington, Washington, and ending back at the same Office about 4:30 p.m. The purpose of the trip is to orient Advisory Committee members to the Finney Adaptive Management Area issues and opportunities. All Western Washington Cascades Provincial Advisory Committee meetings are open to the public. Interested citizens are encouraged to attend. Interested citizens are also welcome to join the May 17 field trip; however, they must provide their own transportation.

The Provincial Advisory Committee provides advice regarding ecosystem management for federal lands within the Western Washington Cascades Province, as well as advice and recommendations to promote better integration of forest management activities among federal and non-federal entities. The Advisory Committee is a key element of implementation of the Northwest Forest Plan.

FOR FURTHER INFORMATION CONTACT: Direct questions regarding this meeting to Penny Sundblad, Province Liaison, USDA Forest Service, Mt. Baker-Snoqualmie National Forest, Mt. Baker Ranger District, 2105 State Route 20, Sedro-Woolley, Washington 98284 (360-856-5700, Extension 321).

Authority: 5 U.S.C. appendix.

Dated: April 20, 2000.
Ronald R. DeHart,
Designated Federal Official.

[FR Doc. 00-10428 Filed 4-25-00; 8:45 am]

BILLING CODE 3410-11-M